NUCLEAR REGULATORY COMMISSION

[Docket Nos. 50-277 and 50-278; NRC-2018-0130]

Exelon Generation Company, LLC; Peach Bottom Atomic Power Station, Units 2 and 3

AGENCY: Nuclear Regulatory Commission.

ACTION: Intent to conduct scoping process and prepare environmental impact statement; public meeting and request for comment.

SUMMARY: The U.S. Nuclear Regulatory Commission will conduct a scoping process to gather information necessary to prepare an environmental impact statement (EIS) to evaluate the environmental impacts for the subsequent license renewal of the operating licenses for Peach Bottom Atomic Power Station, Units 2 and 3 (Peach Bottom). The NRC is seeking stakeholder input on this action and has scheduled a public meeting.

DATES: Submit comments by October 10, 2018. Comments received after this date will be considered if it is practical to do so, but assurance of consideration cannot be given to comments received after this date.

ADDRESSES: You may submit comments by any of the following methods (unless this document describes a different method for submitting comments on a specific subject):

• Federal Rulemaking Website: Go to http://www.regulations.gov and search for Docket ID NRC-2018-0130. Address questions about regulations.gov docket IDs to Jennifer Borges; telephone: 301-287-9127; email: Jennifer.Borges@nrc.gov. For technical questions, contact the individual listed in the FOR FURTHER INFORMATION CONTACT section of this document.

• Mail Comments to: May Ma, Office of Administration, Mail Stop TWFN-7-A60M, U.S. Nuclear Regulatory Commission, Washington, DC 20555-0001. For additional direction on obtaining information and submitting comments, see Obtaining Information and Submitting Comments in the SUPPLEMENTARY INFORMATION section of this document.

FOR FURTHER INFORMATION CONTACT: David Drucker, Office of Nuclear Reactor Regulation, U.S. Nuclear Regulatory Commission, Washington DC 20555-0001; telephone: 301-415-6223, email: David.Drucker@nrc.gov.

SUPPLEMENTARY INFORMATION:

I. Obtaining Information and Submitting Comments

A. Obtaining Information

Please refer to Docket ID NRC-2018-0130 when contacting the NRC about the availability of information regarding this document. You may obtain publicly-available information related to this document by any of the following methods:

• Federal Rulemaking Website: Go to http://www.regulations.gov and search for Docket ID NRC-2018-0130.

• NRC's Agencywide Documents Access and Management System (ADAMS): You may obtain publicly-available documents online in the NRC Library at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. Exelon's application for subsequent renewal of the Peach Bottom licenses can be found in ADAMS under Accession No. ML18193A689.

• NRC's PDR: You may examine and purchase copies of public documents at the NRC's PDR, Room O1-F21, One White Flint North, 11555 Rockville Pike, Rockville, Maryland 20852.

B. Submitting Comments

Please include Docket ID NRC-2018-0130 in the subject line of your comment submission in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

By letter dated July 10, 2018 (ADAMS Package Accession No. ML18193A689), Exelon submitted to the NRC an application for subsequent license renewal of Facility Operating License Nos. DPR-44 and DPR-56 for an additional 20 years of operation at Peach Bottom Atomic Power Station, Units 2 and 3. The Peach Bottom units are boiling water reactors designed by General Electric Company and are located in Delta, PA (17.9 miles south of Lancaster, PA). The current renewed operating license for Unit 2 expires at midnight on August 8, 2033, and the current renewed operating license for Unit 3 expires at midnight on July 2, 2034. The application for subsequent license renewal was submitted pursuant to part 54 of title 10 of the Code of Federal Regulations (10 CFR) and included an environmental report (ER). A notice of receipt and availability of the application was published in the Federal Register on August 1, 2018 (83 FR 37529). A separate notice of acceptance for docketing of the application and opportunity for hearing regarding subsequent license renewal of the facility operating licenses will be published in the Federal Register.

III. Request for Comments

This notice informs the public of the NRC's intention to conduct scoping and prepare an EIS related to the subsequent license renewal application, and to provide the public an opportunity to participate in the environmental scoping process, as defined in 10 CFR 51.29.

The regulations in 36 CFR 800.8, “Coordination with the National Environmental Policy Act,” allow agencies to use their National Environmental Policy Act of 1969 (NEPA) process to fulfill the requirements of Section 106 of the National Historic Preservation Act (NHPA). Therefore, pursuant to 36 CFR 800.8(c), the NRC intends to use its process and documentation for the preparation of the EIS on the proposed action to comply with Section 106 of the NHPA in lieu of the procedures set forth at 36 CFR 800.3 through 800.6.

In accordance with 10 CFR 51.53(c) and 10 CFR 54.23, Exelon submitted the ER as part of the subsequent license renewal application. The ER was prepared pursuant to 10 CFR part 51 and is publicly available in ADAMS under Accession No. ML18193A689. The ER may also be viewed on the internet at https://www.nrc.gov/reactors/operating/licensing/renewal/applications/peach-bottom-subsequent.html. In addition, a paper copy of the SLR application including the ER are available for public review near the site at the Harford County Public Library: Whiteford Branch, 2407 Whiteford Road, Whiteford, MD 21160.

The NRC intends to gather the information necessary to prepare a plant-specific supplement to the NRC's “Generic Environmental Impact Statement (GEIS) for License Renewal of Nuclear Plants” (NUREG-1437), related to the application for subsequent license renewal of the Peach Bottom operating licenses for an additional 20 years beyond the period specified in each of the current renewed licenses.

Possible alternatives to the proposed action include the no action alternative and reasonable alternative energy sources. The NRC is required by 10 CFR 51.95 to prepare a supplement to the GEIS in connection with the renewal of an operating license. This notice is being published in accordance with NEPA and the NRC's regulations found at 10 CFR part 51.

The NRC will first conduct scoping for the supplement to the GEIS and, as soon as practicable thereafter, will prepare a draft supplement to the GEIS for public comment. Participation in the scoping process by members of the public and local, State, Tribal, and Federal government agencies is encouraged. The scoping process for the supplement to the GEIS will be used to accomplish the following:

a. Define the proposed action, which is to be the subject of the supplement to the GEIS;

b. Determine the scope of the supplement to the GEIS and identify the significant issues to be analyzed in depth;

c. Identify and eliminate from detailed study those issues that are peripheral or are not significant; or were covered by a prior environmental review;

d. Identify any environmental assessments and other ElSs that are being or will be prepared that are related to, but are not part of, the scope of the supplement to the GEIS being considered;

e. Identify other environmental review and consultation requirements related to the proposed action;

f. Indicate the relationship between the timing of the preparation of the environmental analyses and the Commission's tentative planning and decision-making schedule;

g. Identify any cooperating agencies and, as appropriate, allocate assignments for preparation and schedules for completing the supplement to the GEIS to the NRC and any cooperating agencies; and

h. Describe how the supplement to the GEIS will be prepared, including any contractor assistance to be used.

The NRC invites the following entities to participate in scoping:

a. The applicant, Exelon;

b. Any Federal agency that has jurisdiction by law or special expertise with respect to any environmental impact involved or that is authorized to develop and enforce relevant environmental standards;

c. Affected State and local government agencies, including those authorized to develop and enforce relevant environmental standards;

d. Any affected Indian tribe;

e. Any person who requests or has requested an opportunity to participate in the scoping process; and

f. Any person who has petitioned or intends to petition for leave to intervene under 10 CFR 2.309.

IV. Public Scoping Meeting

In accordance with 10 CFR 51.26, the scoping process for an EIS may include a public scoping meeting to help identify significant issues related to a proposed activity and to determine the scope of issues to be addressed in an EIS. The NRC will hold a public meeting for the Peach Bottom subsequent license renewal supplement to the GEIS. The scoping meeting will be held on September 25, 2018. The meeting will be held from 6:00 p.m. to 8:00 p.m. at the Peach Bottom Inn, 6085 Delta Road, Delta, PA, 17314. There will be an open house one hour before the meeting for members of the public to meet with NRC staff and sign in to speak at the meeting.

The meeting will be transcribed and will include: (1) An overview by the NRC staff of the NEPA environmental review process, the proposed scope of the supplement to the GEIS, and the proposed review schedule; and (2) the opportunity for interested government agencies, organizations, and individuals to submit comments or suggestions on the environmental issues or the proposed scope of the Peach Bottom subsequent license renewal supplement to the GEIS. To be considered, comments must be provided either at the transcribed public meeting or in writing, as discussed in the ADDRESSES section of this notice.

Persons may register to attend or present oral comments at the meeting on the scope of the NEPA review by contacting the NRC Project Manager, Mr. David Drucker, by telephone at 301-415-6223, or by email at david.drucker@nrc.gov no later than September 18, 2018. Members of the public may also register to speak during the registration period prior to the start of the meeting. Individual oral comments may be limited by the time available, depending on the number of persons who register. Members of the public who have not registered may also have an opportunity to speak if time permits. Public comments will be considered in the scoping process for the Peach Bottom subsequent license renewal supplement to the GEIS. Please contact Mr. David Drucker no later than September 18, 2018, if accommodations or special equipment is needed to attend or present information at the public meeting, so that the NRC staff can determine whether the request can be accommodated.

Participation in the scoping process for the Peach Bottom subsequent license renewal supplement to the GEIS does not entitle participants to become parties to the proceeding to which the supplement to the GEIS relates. Matters related to participation in any hearing are outside the scope of matters to be discussed at this public meeting.

Dated at Rockville, Maryland, this 4th day of September, 2018.
For the Nuclear Regulatory Commission.
Eric R. Oesterle,
Chief, License Renewal Projects Branch, Division of Materials and License Renewal, Office of Nuclear Reactor Regulation.

[FR Doc. 2018-19462 Filed 9-7-18; 8:45 am]

BILLING CODE 7590-01-P